EQUAL EMPLOYMENT OPPORTUNITY COMMISSION

29 CFR Part 1614

Federal Sector Equal Employment Opportunity

CFR Correction

In Title 29 of the Code of Federal Regulations, Parts 900 to 1899, revised as of July 1, 2017, on page 302, in § 1614.304, paragraph (b)(4) is reinstated to read as follows:

§ 1614.304 Contents of petition.

* * * * *

(b) * * *

(4) A copy of the decision issued by the MSPB; and

* * * * *

[FR Doc. 2018-13907 Filed 6-26-18; 8:45 am]

BILLING CODE 1301-00-D